DEPARTMENT OF TRANSPORTATION

Federal Aviation Administration

Seventh Meeting, Special Committee 213/EUROCAE WG 79: Enhanced Flight Vision Systems/Synthetic Vision Systems (EFVS/SVS)

AGENCY: Federal Aviation Administration (FAA), DOT.

ACTION: Notice of RTCA Special Committee 213/EUROCAE WG 79: Enhanced Flight Vision Systems/Synthetic Vision Systems (EFVS/SVS).

SUMMARY: The FAA is issuing this notice to advise the public of a meeting of RTCA Special Committee 213/EUROCAE WG 79: Enhanced Flight Vision Systems/Synthetic Vision Systems (EFVS/SVS).

DATES: The meeting will be held January 26-28, 2010. Sign-in: 8:30 a.m. on January 26, 2010. Meeting: 9 a.m.-5 p.m.

ADDRESSES: The meeting will be held at FAA Long Beach Aircraft Evaluation Group (LGB AEG), 3960 Paramount Blvd., Lakewood, California 90712-4137, 1st Floor Conference Rooms A, B, & C, 562-627-5216 (conf. room A).

Objective: Per Terms of Reference, this meeting will review draft MASPS for EFVS approach and landing and potential draft MASPS material for SVS.

FOR FURTHER INFORMATION CONTACT: (1) RTCA Secretariat, 1828 L Street, NW., Suite 805, Washington, DC 20036; telephone (202) 833-9339; fax (202) 833-9434; Web site http://www.rtca.org. For further meeting information, contact Harold Moses 202-330-0654; Web site HMoses@rtca.org

SUPPLEMENTARY INFORMATION: Pursuant to section 10(a)(2) of the Federal Advisory Committee Act (P.L. 92-463, 5 U.S.C., Appendix 2), notice is hereby given for a Special Committee 213/EUROCAE WG 79: Enhanced Flight Vision Systems/Synthetic Vision Systems (EFVS/SVS) meeting. The agenda will include:

Tuesday, 26 January

• Sign-in at 8:30 a.m.;

• 9 a.m.-5 p.m.—Plenary (including breaks and lunch);

• Welcome, introductions, review agenda, minutes approval, and objectives;

• Plenary work group updates, action item review;

• Separate work group 1 and 2 discussions if needed.

Wednesday, 27 January

• 9 a.m.-5 p.m.—Plenary including breaks and lunch.

Thursday, 28 January

• 9 a.m.-3 p.m.—Plenary (including breaks and lunch);

• Agree on draft MASPS;

• Review action items;

• Review administrative items.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 15, 2009.
Francisco Estrada C.,
RTCA Advisory Committee.

[FR Doc. E9-30437 Filed 12-22-09; 8:45 am]

BILLING CODE 4910-13-P